DEPARTMENT OF HOUSING AND URBAN DEVELOPMENT

[Docket No. FR-4800-FA-21]

Announcement of Funding Awards for Fiscal Year 2003; Community Outreach Partnership Centers

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2003 Community Outreach Partnerships Centers (COPC). The purpose of this document is to announce the names, addresses and the amount awarded to the winners to be used to establish and operate Community Outreach Partnership Centers that will: (1) Conduct competent and qualified research and investigation on theoretical or practical problems in large and small cities; and (2) facilitate partnerships and outreach activities between institutions of higher education, local communities and local governments to address urban problems.

FOR FURTHER INFORMATION CONTACT: Susan Brunson, Office of University Partnerships, U.S. Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455. (Telephone number, other than “800” TTY numbers are not toll free).

SUPPLEMENTARY INFORMATION: The Community Outreach Partnership Centers Program was enacted in the Housing and Community Development Act of 1992 (Pub. L. 102-550, approved October 28, 1992) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Community Outreach Partnership Centers Program provides funds for: Research activities which have practical application for solving specific problems in designated communities and neighborhoods; outreach, technical assistance and information exchange activities which are designed to address specific problems associated with housing, economic development, neighborhood revitalization, infrastructure, health care, job training, education, crime prevention, planning, and community organizing. On April 25, 2003 (68 FR 21105/21153), HUD published a Notice of Funding Availability (NOFA) announcing the availability of $6.955 million ($1.955 million has been set aside to fund COPC Futures Demonstration Program) in Fiscal Year 2003 for the Community Outreach Partnership Centers Program. The Department reviewed, evaluated, and scored the applications received based on the criteria in the NOFA. As a result, HUD has funded 10 applications for New Grants, 6 applications for New Directions Grants and 5 applications for Futures Demonstration Grants. New Grants, which cannot exceed $400,000, are for institutions of higher education just beginning a COPC project. New Directions Grants, which cannot exceed $150,000, are for institutions of higher education that are undertaking new activities or expanding into new neighborhoods. Futures Demonstration Grants, which cannot exceed $400,000, are for schools of architecture, planning and design to focus on housing and planning problems of urban areas. These grants, with their grant amounts are identified below.

The Catalog Federal Domestic Assistance number for this program is 14.511.

In accordance with section 102(a) (4) (C) of the Department of Housing and Urban Development Reform Act of 1989 (Pub. L. 101-235, approved December 15, 1989), the Department is publishing details concerning the recipients of funding awards, as follows:

List of Awardees for Grant Assistance Under the FY 2003 Community Outreach Partnership Center (COPC) Communities Program; Funding Competition, by Institution, Address and Grant Amount

New England

1. University at Massachusetts at Boston, Ms. Joan Arches, College of Public and Community Service, 100 Morrissey Boulevard, Boston, MA 02125. Grant: $150,000.

New York/New Jersey

2. Rochester Institute of Technology, Ann Howard, College of Liberal Arts, 141 Lomb Memorial Drive, Rochester, NY 14623. Grant: $ 399,998.

3. State University of New York College at Cortland, Dr. Craig Little, State University of New York College at Cortland, 35 State Street, P.O. Box 9, Albany, NY 12201. Grant: $150,000.

Mid-Atlantic

4. Point Park College, Dr. Katherine Henderson, Office of the President, 201 Wood Street, Pittsburgh, PA 15222. Grant: $398,405.

5. University of Pennsylvania, Ms. Rose Mazur, Office of Research Services, 3451 Walnut Street, Philadelphia, PA 19104. Grant: $397,739 (Futures Demonstration Grantee).

Southeast/Caribbean

6. Winston-Salem State University, Ms. Valerie Howard, Winston-Salem State University, 601 Martin Luther King, Jr. Drive, Winston-Salem, NC 27110. Grant: $400,000.

7. Anderson College, Dr. Bob Hanley, Office of Freshman Programs and Community Service, 316 Boulevard, Anderson, SC 29621. Grant: $397,384.

8. Florida State University, Mr. Charles Connerly, Department of Urban and Regional Planning, 118 North Woodward, Tallahassee, FL 32306. Grant: $399,969.

Midwest

9. Portland Community College, Kristin Watkins, Portland Community College, P.O. Box 19000, Portland, OR 97280. Grant: $399,880.

10. Wright State University, Dr. Jennifer Subban, Center for Urban and Public Affairs, 3640 Colonel Glenn Highway, Dayton, OH 45435. Grant: $150,000.

11. University of Notre Dame, Mr. Jay Caponigro, Robinson Community Learning Center, 511 Main Building, Notre Dame, IN 46556. Grant: $398,087.

12. Valparaiso University, Dr. Larry Baas, Community Outreach Partnership Center, O.P. Kretzmann Hall, Valparaiso, IN 46383. Grant: $150,000.

13. Butler University, Dr. Margaret Brabant, College of Liberal Arts and Sciences, 4600 Sunset Avenue, Indianapolis, IN 46208. Grant: $150,000.

14. Indiana University, Mr. Robert Bringle, Academic Affairs, 62 Union Drive, Room 618, Indianapolis, IN 46202. Grant: $150,000.

Great Plains

15. University of Minnesota, Mary Guzowski, Sponsored Projects Administration, 200 Oak Street, SE, Suite 450, Minneapolis, MN 55455. Grant: $400,000 (Futures Demonstration Grantee).

Southwest

16. University of Texas at El Paso, Dr. Kathleen Staudt, Center for Civic Engagement, 500 West University, El Paso, TX 79968. Grant: $395,403.

17. Louisiana State University, Dr. Frank Bosworth, Louisiana State University, 136 Atkinson Hall, Baton Rouge, LA 70803. Grant: $399,939 (Futures Demonstration Grantee).

18. University of Arizona, Dr. Charles Poster, University of Arizona, P.O. Box 3308, Tucson, AZ 85722. Grant: $394,225 (Futures Demonstration Grantee).

Pacific/Hawaii

19. University of California at Riverside, Ms. Deborah Terao, University of California at Riverside, 200 University Office Building, Riverside, CA 92521. Grant: $400,000.

20. California State University, Long Beach Foundation, Ms. Patricia Rozee, Center for Community Service Learning, 6300 State University Drive, Long Beach, CA 90815. Grant: $399,979.

Northwest/Alaska

21. University of Washington, Ms. Carol Zuiches, 3935 University Way, NE, Box 355754, Seattle, WA 98105. Grant: $396,994 (Futures Demonstration Grantee).

Dated: June 7, 2006.
Darlene F. Williams,
Assistant Secretary for Policy Development and Research.

[FR Doc. E6-9549 Filed 6-16-06; 8:45 am]

BILLING CODE 4210-67-P